DEPARTMENT OF COMMERCE

National Oceanic and Atmospheric Administration

[I.D. 050604A]

Endangered Species; File No. 1475

AGENCY: National Marine Fisheries Service (NMFS), National Oceanic and Atmospheric Administration (NOAA), Commerce.

ACTION: Receipt of application.

SUMMARY: Notice is hereby given that the Florida Fish and Wildlife Conservation Commission, Florida Marine Research Institute (Richard E. Matheson, Principal Investigator), 1481 Market Circle, Unit 1, Port Charlotte, FL 33953, has applied in due form for a permit to take smalltooth sawfish (Pristis pectinata) for purposes of scientific research.

DATES: Written, telefaxed, or e-mail comments must be received on or before June 21, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 1475.

FOR FURTHER INFORMATION CONTACT: Jennifer Jefferies or Jill Lewandowski, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The purpose of the project is to conduct research and monitoring on smalltooth sawfish in the State of Florida, especially the Charlotte Harbor estuarine system where sawfish are known to frequent. Researchers would characterize habitat use, relative abundance, juvenile recruitment, and temporal and spatial distributions of this species through the following research methodologies: capture via seines, hook and line and gillnets, measure, genetic sampling, PIT and rototagging and release of 135 juvenile and 65 adult smalltooth sawfish throughout the state of Florida. In addition, a subset of 25 juveniles and 25 adults would also have acoustic tags attached, and a subset of 10 juveniles and 15 adults would also have satellite tags attached. The researchers are requesting authorization for these activities for five years.

Dated: May 17, 2004.
Stephen L. Leathery,
Chief, Permits, Conservation and Education Division, Office of Protected Resources, National Marine Fisheries Service.

[FR Doc. 04-11582 Filed 5-20-04; 8:45 am]

BILLING CODE 3510-22-S